DEPARTMENT OF TRANSPORTATION

Federal Aviation Administration

14 CFR Part 39

[Docket No. FAA-2020-0363; Product Identifier 2018-SW-010-AD; Amendment 39-19894; AD 2020-07-15]

RIN 2120-AA64

Airworthiness Directives; PZL Świdnik S.A. Helicopters

AGENCY: Federal Aviation Administration (FAA), DOT.

ACTION: Final rule; request for comments.

SUMMARY: The FAA is adopting a new airworthiness directive (AD) for all PZL Świdnik S.A. Model PZL W-3A helicopters. This AD was prompted by a report of a cracked nose landing gear (NLG) bellcrank assembly. This AD requires a one-time inspection of the NLG bellcrank assembly for discrepancies and replacement if necessary. The FAA is issuing this AD to address the unsafe condition on these products.

DATES: This AD becomes effective April 29, 2020.

The Director of the Federal Register approved the incorporation by reference of a certain publication listed in this AD as of April 29, 2020.

The FAA must receive comments on this AD by May 29, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact PZL-Świdnik S.A., Al. Lotników Polskich 1, 21-045 Świdnik, Poland; telephone (+48) 664 424 798; fax (+48) 817 225 710; internet www.pzl.swidnik.pl. You may view this referenced service information at the FAA, Office of the Regional Counsel, Southwest Region, 10101 Hillwood Pkwy., Room 6N-321, Fort Worth, TX 76177. It is also available on the internet at https://www.regulations.gov by searching for and locating Docket No. FAA-2020-0363.

Examining the AD Docket

You may examine the AD docket on the internet at https://www.regulations.gov by searching for and locating Docket No. FAA-2020-0363; or in person at Docket Operations between 9 a.m. and 5 p.m., Monday through Friday, except Federal holidays. The AD docket contains this AD, the European Union Aviation Safety Agency (previously European Aviation Safety Agency) (EASA) AD, any comments received, and other information. The street address for Docket Operations is listed above. Comments will be available in the AD docket shortly after receipt.

FOR FURTHER INFORMATION CONTACT: David Hatfield, Senior Aviation Safety Engineer, Safety Management Section, Rotorcraft Standards Branch, FAA, 10101 Hillwood Pkwy., Fort Worth, TX 76177; telephone (817) 222-5116; email david.hatfield@faa.gov.

SUPPLEMENTARY INFORMATION:

Discussion

EASA, which is the Technical Agent for the Member States of the European Union, has issued EASA AD 2018-0035-E, dated February 6, 2018; corrected March 16, 2018 (referred to after this as the Mandatory Continuing Airworthiness Information, or “the MCAI”), to correct an unsafe condition for all PZL-Świdnik S.A. Model PZL W-3A helicopters. The MCAI also applies to PZL-Świdnik S.A. Model PZL W-3AS helicopters, which are not type certificated in the U.S. EASA advises that cracking in a NLG bellcrank assembly, part number (P/N) 30.42.010.01.00, was due to reduced wall thickness, which resulted from a manufacturing deficiency. EASA advises that this condition, if not detected and corrected, could lead to failure of the NLG, possibly resulting in damage to the helicopter and injury of the occupants. To address this potentially unsafe condition, EASA requires a one-time inspection of the affected NLG assembly installed on helicopters currently in service and replacement if necessary.

You may examine the MCAI on the internet at https://www.regulations.gov by searching for and locating Docket No. FAA-2020-0363.

Related Service Information Under 1 CFR Part 51

Wytwórnia Sprzętu Komunikacyjnego has issued Mandatory Bulletin No. BO-37-18-292, Revision 1, dated February 5, 2018. This service information describes procedures for a one-time general visual inspection of the NLG bellcrank assembly for cracks; measurement of reference dimensions or ultrasonic inspection for manufacturing defects; and bellcrank assembly replacement including related investigative actions (inspection of the NLG for hydraulic fluid contamination and free movement of the piston rod) if necessary.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is issuing this AD because the FAA evaluated all the relevant information and determined the unsafe condition described previously is likely to exist or develop on other products of the same type design.

Requirements of This AD

This AD requires accomplishing the actions specified in the service information described previously.

FAA's Justification and Determination of the Effective Date

Section 553(b)(3)(B) of the Administrative Procedure Act (APA) (5 U.S.C.) authorizes agencies to dispense with notice and comment procedures for rules when the agency, for “good cause,” finds that those procedures are “impracticable, unnecessary, or contrary to the public interest.” Under this section, an agency, upon finding good cause, may issue a final rule without seeking comment prior to the rulemaking.

Since there are currently no domestic operators of this product, notice and opportunity for public comment before issuing this AD are unnecessary pursuant to 5 U.S.C. 553(b)(3)(B). In addition, for the reason stated above, the FAA finds that good cause exists pursuant to 5 U.S.C. 553(d) for making this amendment effective in less than 30 days.

Regulatory Flexibility Act (RFA)

The requirements of the RFA do not apply when an agency finds good cause pursuant to 5 U.S.C. 553 to adopt a rule without prior notice and comment. Because the FAA has determined that it has good cause to adopt this rule without notice and comment, RFA analysis is not required.

Comments Invited

This AD is a final rule that involves requirements affecting flight safety, and the FAA did not precede it by notice and opportunity for public comment. The FAA invites you to send any written relevant data, views, or arguments about this AD. Send your comments to an address listed under the ADDRESSES section. Include “Docket No. FAA-2020-0363; Product Identifier 2018-SW-010-AD” at the beginning of your comments. The FAA specifically invites comments on the overall regulatory, economic, environmental, and energy aspects of this AD. The FAA will consider all comments received by the closing date and may amend this AD based on those comments.

The FAA will post all comments received, without change, to https://www.regulations.gov, including any personal information you provide. The FAA will also post a report summarizing each substantive verbal contact received about this AD.

Costs of Compliance

Currently, there are no affected U.S.-registered airplanes. If an affected airplane is imported and placed on the U.S. Register in the future, the FAA provides the following cost estimates to comply with this AD:

Estimated Costs for Required Actions
Labor cost | Parts cost | Cost per product
3 work-hours × $85 per hour = $255 | $0 | $255

The FAA estimates the following costs to do any necessary on-condition action that would be required based on the results of any required actions. The FAA has no way of determining the number of aircraft that might need this on-condition action:

Estimated Costs of On-Condition Actions
Labor cost | Parts cost | Cost per product
5 work-hours × $85 per hour = $425 | $5,000 | $5,425

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866; and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-07-15 PZL Świdnik S.A.: Amendment 39-19894; Docket No. FAA-2020-0363; Product Identifier 2018-SW-010-AD.

(a) Effective Date

This AD becomes effective April 29, 2020.

(b) Affected ADs

None.

(c) Applicability

This AD applies to all PZL Świdnik S.A. Model PZL W-3A helicopters, certificated in any category.

(d) Subject

Joint Aircraft Service Component (JASC) Code 3200, Landing Gear System.

(e) Reason

This AD was prompted by a report of a cracked nose landing gear (NLG) bellcrank assembly. The FAA is issuing this AD to address cracking of the NLG bellcrank assembly due to a manufacturing deficiency. This condition, if not addressed, could lead to failure of the NLG, possibly resulting in damage to the helicopter and injury of the occupants.

(f) Compliance

Comply with this AD within the compliance times specified, unless already done.

(g) Definition

For purposes of this AD, affected NLG bellcrank assemblies have part number (P/N) 30.42.010.00.00.

(h) Inspection

For helicopters having serial numbers up to 3X.10.12 inclusive: Within 5 landings after the effective date of this AD, inspect the affected NLG bellcrank assembly for discrepancies, in accordance with Chapter II, paragraph 2., of Wytwórnia Sprzętu Komunikacyjnego Mandatory Bulletin No. BO-37-18-292, Revision 1, dated February 5, 2018 (Bulletin BO-37-18-292). For purposes of this AD, a “landing” is counted any time the helicopter lifts off into the air and then lands again regardless of the duration of the landing and regardless of whether the engine is shut down.

(i) Replacement

During the inspection required by paragraph (h) of this AD, if the NLG bellcrank assembly meets the criteria for replacement, as specified in Chapter II, paragraph 3., of Bulletin BO-37-18-292: Before further flight, replace the affected NLG bellcrank assembly and do all related investigative and corrective actions, in accordance with Chapter II, paragraph 4., of Bulletin BO-37-18-292.

(j) Parts Installation Limitation

As of the effective date of this AD: Do not install a bellcrank NLG assembly, P/N 30.42.010.00.00, on any helicopter unless the assembly has passed an inspection (no defects found), in accordance with paragraph (h) of this AD.

(k) Credit for Previous Actions

This paragraph provides credit for actions required by paragraphs (h) and (i) of this AD, if those actions were performed before the effective date of this AD using Bulletin BO-37-18-292.

(l) Special Flight Permit

Special flight permits, as described in 14 CFR 21.197 and 21.199, are not allowed.

(m) Alternative Methods of Compliance

(1) The Manager, Safety Management Section, Rotorcraft Standards Branch, FAA, may approve AMOCs for this AD. Send your proposal to: David Hatfield, Senior Aviation Safety Engineer, Safety Management Section, Rotorcraft Standards Branch, FAA, 10101 Hillwood Pkwy., Fort Worth, TX 76177; telephone 817-222-5116; email ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(n) Related Information

(1) The subject of this AD is addressed in the European Union Aviation Safety Agency (previously European Aviation Safety Agency) (EASA) AD 2018-0035-E, dated February 6, 2018; corrected March 16, 2018. This EASA AD may be found in the AD docket on the internet at https://www.regulations.gov by searching for and locating Docket No. FAA-2020-0363.

(2) For more information about this AD, contact David Hatfield, Senior Aviation Safety Engineer, Safety Management Section, Rotorcraft Standards Branch, FAA, 10101 Hillwood Pkwy., Fort Worth, TX 76177; telephone (817) 222-5116; email david.hatfield@faa.gov.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Wytwórnia Sprzętu Komunikacyjnego Mandatory Bulletin No. BO-37-18-292, Revision 1, dated February 5, 2018.

(ii) [Reserved]

(3) For service information identified in this AD, contact PZL-Świdnik S.A., Al. Lotników Polskich 1, 21-045 Świdnik, Poland; telephone (+48) 664 424 798; fax (+48) 817 225 710; internet www.pzl.swidnik.pl.

(4) You may view this service information at the FAA, Office of the Regional Counsel, Southwest Region, 10101 Hillwood Pkwy., Room 6N-321, Fort Worth, TX 76177.

(5) You may view this service information that is incorporated by reference at the National Archives and Records Administration (NARA). For information on the availability of this material at NARA, email fedreg.legal@nara.gov, or go to: https://www.archives.gov/federal-register/cfr/ibr-locations.html.

Issued on April 8, 2020.
Lance T. Gant,
Director, Compliance & Airworthiness Division, Aircraft Certification Service.

[FR Doc. 2020-07742 Filed 4-13-20; 8:45 am]

BILLING CODE 4910-13-P